DEPARTMENT OF HEALTH AND HUMAN SERVICES

Indian Health Service

Division of Epidemiology and Disease Prevention; Urban Indian Communities

Announcement Type: Competitive.

Funding Announcement: HHS-IHS-2008-EPI-0001.

Catalog of Federal Domestic Assistance Number: 93.231.

Key Dates:

Application Deadline Date: April 4, 2008.

Review Date: April 11, 2008.

Anticipated Start Date: May 1, 2008.

I. Funding Opportunity

The Department of Health and Human Services (HHS) Indian Health Service (IHS) announces competitive cooperative agreement applications are now being accepted by the Division of Epidemiology and Disease Prevention (DEDP) to establish a Tribal Epidemiology Center (TEC) for American Indians/Alaska Natives (AI/AN) and urban Indian organizations in California. This program is authorized under Snyder Act, 25 U.S.C. 13, and 25 U.S.C. 1621m of the Indian Health Care Improvement Act. This announcement limits competition to all eligible entities within the California Area. To obtain details regarding eligibility, please refer to Section III below.

The purpose of this cooperative agreement is to fund an organization that will provide epidemiological support and development for the AI/AN population in the state of California through the augmentation of existing programs with expertise in epidemiology and a history of regional administrative support. It is the intent of IHS to have a TEC in all of the 12 IHS Administrative Areas. This announcement seeks to establish a TEC in the California Area which will meet the aforementioned intent of IHS.

The TEC will be acting under a cooperative agreement with the IHS to operate the TEC within the California Area. In the conduct of this activity, the TEC may receive Protected Health Information (PHI) for the purpose of preventing or controlling disease, injury or disability, including, but not limited to, the reporting of disease, injury, vital events such as birth or death and the conduct of public health surveillance, public health investigation, and public health interventions for Tribal communities that they serve. Further, the IHS considers this to be a public health activity for which disclosure of PHI covered entities is authorized by 45 CFR 164.512(b) of the Privacy Rule.

Epidemiology activities will include, but are not limited to, enhancement of surveillance for disease condition; epidemiologic analysis; interpretation, and dissemination of surveillance data; investigation of disease outbreaks; development and implementation of epidemiologic studies; development and implementation of disease control and prevention programs; and coordination of activities of other public health authorities in the region. The proposed activities are intended to benefit, as much as possible, the entire AI/AN population in California.

To achieve the purpose of this cooperative agreement, the recipient will be responsible for the activities under item number 1. Recipient Activities and IHS will be responsible for conducting activities under item 2. IHS Activities.

1. Recipient Activities:

(a) Assist and facilitate AI/AN communities, Tribal organizations, and urban Indian organizations in implementing and enhancing disease surveillance systems, identifying their height priority health status objectives based on epidemiologic data, and monitoring progress toward meeting the health status objectives of HHS (as described in Healthy People 2010) and of the constituent AI/AN communities, Tribes, and urban Indian organizations in the region. Assist and facilitate reporting of nationally notifiable disease conditions to public health authorities in the region.

(b) Provide health specific data and community health profiles for Tribal entities in their respective catchment areas.

(c) Participate in the development of systems for sharing, improving, and disseminating aggregate health data at a national level for purposes of advocacy for AI/AN communities, and meeting such national goals as described by Healthy People 2010, or for IHS for the Government Performance and Results Act (GPRA), and other national-level activities.

(d) Collaborate with national HHS programs in the development of standardized health profiles, surveillance and data monitoring methods and data sets.

(e) Support responses to public health emergencies in collaboration with the IHS, DEDP state, local, Tribal, and other Federal health authorities.

(f) Support the IHS Director's Health Promotion and Disease Prevention (HP/DP) Initiatives. This information can be obtained through the Internet at the following Web site: http://www.ihs.gov/NonMedicalPrograms/HPDP.

(g) Develop and implement epidemiological studies that have practical application in improving the health status of constituent communities. Studies may require Institutional Review Board approval if human subjects are involved.

(h) Develop and implement disease control and prevention programs in cooperation with other public health entities. Make recommendations for prioritizing public health services needed by constituents.

(i) Establish a broad-based advisory council that consists of technical experts in epidemiology and public health, community members, health care providers, and others who can provide overall program direction and guidance.

(j) Produce and disseminate letters of notification to all participating Tribal urban programs describing each new project involving area-wide PHI.

(k) Ensure that the TEC staff has appropriate expertise in epidemiology and health sciences (for example: A medical epidemiologist at least one-half on the time, biostatistician consultant on contract as needed).

(l) Provide a mid-year report and an annual report (no more than 10 pages respectively) at the end of the year.

(m) Develop an agreement with the Area Office within 90 days after the award is made to the eligible entity that delineates:

(1) “Routine” activities for which the TEC will have blanket access (e.g. injuries, immunizations, and surveillance data).

(2) Activities for which they will need additional permission such as special studies and research for publication.

(3) Language which outlines HIPAA and Privacy Act protection.

(4) The mechanism used to track both #1 (suggests TEC tracks self) and #2 above.

(5) Reports that show the entity's access it IHS data.

2. Indian Health Service Activities:

(a) Convene a TEC workshop/conference of funded organizations every year for information sharing and problem solving.

(b) Provide consultation and technical assistance for the funded TEC. Provide technical assistance with implementation and evaluation of the comprehensive program as described under Recipient Activities above. Consultation and technical assistance will include, but is not limited to, the following area:

(1) Interpretation of current scientific literature related to epidemiology, statistics, surveillance, Healthy People 2010 Objectives, and other disease control activities and;

(2) Design and implementation of each program component (surveillance, epidemiologic analysis, outbreak investigation, development of epidemiologic studies, development of disease control programs, and coordination of activities and;

(3) Overall operational planning and program management.

(c) Provide opportunities for training fellowship at DEDP and other programs in IHS, if funds permit.

(d) Conduct site visits to TECs to assess data security, compliance with Federal and applicable state laws and regulations, program progress and mutually resolve problems, as needed, and/or coordinate reverse site visits to IHS in Albuquerque, New Mexico.

(e) If funds and personnel are available, assign personnel from the DEDP Senior Staff Field Placement (SSFP) Program to TECs in lieu of a portion of the financial assistance.

(f) Coordinate all epidemiologic activities on a national scope.

(g) DEDP will increase project funding if additional funds become available.

II. Award Information

Type of Awards: Cooperative Agreement.

Estimated Funds Available: Estimated available funds will be $350,000.

The total amount identified for Fiscal Year 2008 is $350,000. The project will be awarded for three years with 12 months, per budget period. Future year funding levels will be determined based on availability of funds.

Anticipated Number of Awards: One award will be made under this program announcement.

Project Period: May 1, 2008 to April 30, 2011.

Award Amount: Up to $350,000 total, including indirect costs. Awards under this announcement are subject to the availability of funds. Continuation awards will be issued annually based on satisfactory performance, availability of funds, and program priorities of the IHS.

Funding Information:

As part of the effort to establish TECs throughout the nation, these funds will be used to support activities on a regional basis. Priority will be given to applicants proposing to provide services to a large region with many Tribes. Collaborative efforts among other Tribal organizations, Federal/State local governments, and university based organizations are encouraged to apply. the funds awarded under this cooperative agreement are not intended to support a loose collaboration of independent organizations.

It is anticipated that funding will be available to fund one applicant at $350,000 per year. If available, and at the request of the applicant, SSFP personnel may be assigned to the TEC. Only a single cooperative agreement will be funded for this announcement. This cooperative agreement will be funded on a yearly basis for the base and two additional years, subject to the availability of funding.

Programmatic Involvement: See IHS Activities.

III. Eligibility Information

1. Eligible Applicants: Federally-recognized Tribes, Tribal organizations as defined by 25 U.S.C. 1603(e), and intertribal consortia that provide services to the California Area AI/AN population will be eligible for this cooperative agreement. Such entities must present and/or serve a population of at least 60,000 AI/AN to be eligible. The figure must be substantiated by documentation describing IHS user populations, United States Census Bureau data, clinical catchment data, or any method that is scientifically and epidemiologically valid. An intertribal consortium or AI/AN organization is eligible to receive a cooperative agreement if it is incorporated for the primary purpose of improving AI/AN health, and serving the IHS California Area American Indian Tribes. Collaborations with regional IHS, Centers for Disease Control, State and local health departments, and universities are encouraged to apply.

The following documentation is required when submitting your application.

(a) Letters of support from each Tribe that the epicenter will be serving acknowledging the types of activities that involve the TEC. All letters of support must be signed by Tribal Chairman, President, or Governor to meet this requirement because they are acting as elected representative of the Tribe. No formal letters will be accepted.

(b) Evidence of the size of the population proposed to be served.

(c) A signed document from the Tribe acknowledging the types of activities that the TEC will be engaged in, and the types of PHI that will be utilized.

(d) A draft of the agreement with the Area Office that will be finalized within 90 days after the award is made will include the following:

(1) “Routine” activities for which the TEC will have blanket access (e.g. injuries immunization, and surveillance data).

(2) Activities for which they will need additional permission such as special studies and research for publication.

(3) Language which outlines Health Insurance and Portability and Accountability Act (HIPAA) Privacy and Security Standards.

(4) The mechanism used to track both #1 (suggest TEC tracks self) and #2 above.

(5) Reports that show the entity's access to IHS data.

2. Cost Sharing or Matching: DEDP does not require matching funds or cost sharing. However, the program does require an in-kind contribution from the applicant organization. Therefore, the administrative support will be the responsibility of the applicant organization, and may include such expenses as work space, rental/leasing cost, participant cost for research studies, and stipends for members of the executive or advisory council.

IV. Application and Submission Information

Address to request application package

(a) Applicant package may be found in Grants.gov (www.grants.gov) or at: http://www.ihs.gov/NoMedicalPrograms/gogp/gogp_funding.asp. Information regarding the electronic application process may be directed to Michelle G. Bulls, at (301) 443-6290.

(b) Content and Form of Application Submission.

• Be single spaced.

• Be typewritten.

• Have consecutively numbered pages.

• Use black type not smaller than 12 characters per one inch.

• Contain a narrative that does not exceed seven typed pages that includes the other submission requirements below. The seven page narrative does not include the work plan, standard forms, Tribal resolutions, and letters of support, table of contents, budget, budget justifications, narratives, and/or other appendix items.

Public Policy Requirements: All Federal-wide public policies apply to IHS grants with exception of Lobbying and Discrimination public policy. For applicants that have obtained a waiver to submit a hard copy application, please submit it on the following forms.

• Standard Form 424, Application for Federal Assistance.

• Standard Form 424A, Budget Information-Non-Construction Programs, pages 1 and 2.

• Standard Form 424B, Assurances-Non-Constructions Programs (front and back).

• Certification (pages 17-19).

• Project Executive Summary (one page or less).

• Table of Contents.

• Introduction and Need for Assistance.

• Project Objectives(s) to include a spreadsheet with Objective, Time-Line, Approach, and Results & Benefits.

• Project Evaluation Plan.

• Applicant's organizational capabilities addressing Recipient's Activities.

• Recipient Activities.

• Budget Narrative and Justifications to support costs outlined in the proposal.

• Resumes of key staff or biosketches.

• Position descriptions for key staff.

• Organizational chart.

• All letters of support from potential collaborators.

• Copy of current Department of Interior-negotiated indirect cost rate agreement (required) in order to receive Indirect Cost (IDC).

• A map of the areas to benefit from the project.

(c) Submission Dates and Times.

Application must be submitted electronically through Grants.gov by the close of business on Thursday, April 4, 2008, 12 midnight Eastern Time (EST). If technical challenges arise and the applicant is unable to successfully complete the electronic application process, the applicant must contact Grants Policy Staff at least fifteen days prior to the application deadline and advise of the difficulties that your organization is experiencing. The grantee must obtain prior approval, in writing (e-mails are acceptable) allowing the paper submission. If submission of a paper application is requested and approved, the original and two copies may be sent to the appropriate grants contact that is listed in SEction IV, letter (f) above. Applications that are not submitted through Grants.gov, without an approved waiver, will be returned to the applicant without review or consideration. Late applications will not be accepted for processing, and it will be returned to the applicant and will not be considered for funding.

(d) Intergovernmental Review.

Executive Order 12372 requiring intergovernmental review is not applicable to this program.

(e) Funding Restrictions.

• Pre-award costs are allowable pending prior approval from the awarding agency. However, in accordance with 45 CFR Part 74, all pre-award costs are incurred at the recipient's risk. The awarding office is under no obligation to reimburse such costs if for any reason the applicant does not receive an award of if the award to the recipient is less than anticipated.

• The available funds are inclusive of direct and appropriate indirect costs.

• Administrative support will be the responsibility of the applicant organization, and may include such expenses as work space, rental leasing cost, participant cost for research studies and stipends for members of the executive or advisory council. This support will be considered an administrative in-kind contribution from the grantee to the TEC.

• Only one cooperative agreement will be awarded.

• IHS will not acknowledge receipt of applications.

• The specified costs for the following items will be part of the IDC agreement or the responsibility of the parent organization and will not be charged as direct costs under this cooperative agreement: stipends for the executive or advisor council, participant cost for studies, leasing or rental cost.

(f) Other Submission Requirements.

Electronic Submission

The preferred method of receipt of applications is electronic submission through Grants.gov. However, should any technical challenges arise regarding the submission, please contact Grants.gov Customer Support at 1-800-518-4726 or support@grants.gov. The Contact Center hours of operation are Monday-Friday from 7 a.m. to 9 p.m. EST. The applicant must seek assistance at least fifteen days prior to the application deadline. Applicants that do not adhere to the timelines for Central Contractor Registry (CCR) and/or Grants.gov registration and/or request for timely assistance with technical issues will not be able to submit non-electronic applications.

To submit an application electronically, please use the http://www.Grants.gov. and select “Apply for Grants” link on the home page. Download a copy of the application package, on the Grants.gov website, complete it offline, and then upload and submit the application via the Grants.gov site. You may not e-mail an electronic copy of a grant application to the IHS.

Please be reminded of the following:

• Under the new IHS application submission requirements, paper applications are not the preferred method. However, if you have technical problems submitting your application on-line, please contact directly Grants.gov Customer Support at http://www.grants.gov/CustomerSupport.

• Upon contacting Grants.gov, obtain a tracking number as proof of contact. The tracking number is helpful if there are technical issues that cannot be resolved and waiver request from Grants Policy must be obtained.

• If it is determined that a formal waiver is necessary, the applicant must submit a request, in writing (e-mails are acceptable), to Michelle.Bulls@ihs.gov. Please include a justification for the need to deviate from the standard electronic submission process. Upon receipt of approval, a hard-copy application must be downloaded by the applicant from Grants.gov, and submitted directly to Ms. Sylvia Ryan, Grants Management Specialist, Division of Grants Operations (DGO), 801 Thompson Avenue, TMP 360, Rockville, MD 20852, by April 4, 2008.

• Upon entering the Grants.gov site, there is information available that outlines the requirements to the applicant regarding electronic submission of an application through Grants.gov, as well as the hours of operation. We strongly encourage all applicants not to wait until the deadline date to begin the application process through Grants.gov as the registration process for CCR and Grants.gov could take up to fifteen working days.

• To use Grants.gov, the applicant must have a Data Universal Numbering System (DUNS) Number and register in the CCR. You should allow a minimum of ten working days to complete CCR registration. See below on how to apply.

• You must ensure that all required documents are submitted prior to the stated timelines within this announcement or the application will not be considered for funding.

• Please us the optional attachment feature in Grants.gov to attached additional documentation that may be requested by IHS.

• Your application must comply with any page limitation requirements described in the program announcement. After you electronically submit your application, you will receive an automatic acknowledgment from Grants.gov that contains a Grants.gov tracking number. Division of Grants Operations (DGO) will download your application from Grants.gov and provide necessary copies to the DEDP Program Office. DGO will not notify applicants that the application has been received.

• You may access the electronic application for this program on http://www.grants.gov.

• You may search for the downloadable application package by either the CFDA number or the Funding Opportunity Number. Both numbers are identified in the heading of this announcement.

• The applicant must provide the Funding Opportunity Number: HHS-IHS-2008-EPI-0001.

• E-mail applications will not be accepted under this announcement.

DUNS Number

Applicants are required to have a DUNS number to apply for a grant or cooperative agreement from the Federal Government. The DUNS number is a nine-digit identification number, which uniquely identifies business entities. Obtaining a DUNS number is easy and there is no charge. To obtain a DUNS number, access http://www.dunandbradstreet.com or call 1-800-705-5711. Interested parties may wish to obtain their DUNS number by phone to expedite the process.

Applications submitted electronically must also be registered with the CCR. A DUNS number is required before CCR registration can be completed. Many organizations may already have a DUNS number. Please use the number listed above to investigate whether or not your organization has a DUNS number. Registration with the CCR is free of charge. Applicants may register by calling 1-888-227-2423. Please review and complete the CCR Registration Worksheet located on http://www.ccr.gov/. More detailed information regarding these registration processes can be found at http://www.grants.gov.

V. Application Review Information

1. Criteria.

Introduction, Current Capacity, and Need for Assistance (10 points)

(a) Describe the applicant's current public health activities including whether the applicant has a history of providing public health related programs, how long it has been operating, what programs or services are currently provided, and interactions with other public health authorities in the regions (State, local, or Tribal), history and the capacity to communicate with all Tribes in California. Specifically describe current epidemiologic capacity and history of support for such activities.

(b) Provide a physical location of the proposed TEC and area to be served by the proposed project including a map (include the map in the attachment).

(c) Describe the relationship between this program and other funded work planned, anticipated, or underway.

(d) If applicable, identify the past three years of grants with current Tribal management grants including past awarded cooperative agreements from the DEDP, dates of funding, and project accomplishments (do not include copies of reports).

(e) Describe how the epicenter will ensure compliance with the Privacy Act, HIPAA, and computer data security.

(f) Describe how Tribal and urban programs will be notified of specific studies involving PHI.

Project Objective(s) (30 Points)

Approach, Results, and Benefits, for the entire 1-year funding period

(a) State in measurable and realistic terms the objectives and appropriate activities to achieve each objective for the projects as listed in the Recipient Activities.

(b) Identify the expected results, benefits, and outcomes or products to be derived from each objective of the project.

(c) Include a work plan for each objective that indicates when the objectives and major activities will be accomplished and who will conduct the activities on a calendar timeline. The work plan must include the process of hiring staff with appropriate leadership skills and expertise in epidemiology, medicine, and program administration.

(d) Specify who will review and accept the work to be performed by consultants or contractors.

Project Evaluation (20 Points)

(a) State how project objectives will be achieved.

(b) Define the criteria to be used to evaluate results.

(c) Explain the methodology that will be used to determine if the needs identified for the project are being met and if the outcomes identified are being achieved.

Organization Capabilities and Qualifications (25 points)

(a) Explain the management and administrative structure of the organization including documentation of current certified financial management systems from the Bureau of Indian Affairs, IHS, or a Certified Public Accountant and an updated organizational chart (include chart in the attachments).

(b) Describe the ability of the organization to manage a project of the proposed scope. An organizational chart must be included.

(c) Provide position descriptions and resumes/biosketches of key personnel, including those of consultants or contractors in the appendix. Position descriptions should clearly describe each position and its duties, indicating desired qualifications and experience requirements related to the project. Resumes should indicate that the proposed staff is qualified to carry out the project activities.

Budget (15 points)

(a) Provide a detailed line-item budget for the proposed year.

(b) Provide a detailed line-item budget justification including sufficient cost and other details to facilitate the determination of cost allowable and relevance of these costs to the proposed project. The funds requested should be appropriate and necessary for the scope of the project.

(c) Describe where the TEC will be housed, i.e., facilities and equipment available.

(d) If use of consultants or contractors are proposed or anticipated, provide a detailed scope of work that clearly defines the deliverables or outcomes anticipated.

2. Review and Selection Process.

Applications submitted by the closing date and verified by electronic submission or the postmark under this program announcement will undergo a review to determine that:

(a) The applicant is eligible in accordance with the Eligibility Information section of this application.

(b) Letters of support/collaboration are included.

(c) The application executive summary, forms and materials submitted are adequate to allow the review panel to undertake an in-depth evaluation.

(d) The application is responsive to this announcement.

Applications that are deemed ineligible or unresponsive will be returned without consideration.

Competitive Review of Accepted Applications

Applications meeting eligibility requirements that are complete, responsive, and conform to this program announcement will be reviewed for merit by an Ad Hoc Objective Review Committee (ORC) appointed by the IHS to review and make recommendations on these applications. The reviews will be conducted in accordance with the HHS objective review requirements. The ORC may include up to 40% IHS employees, with the remaining 60% made up of non-IHS, Federal or non-Federal personnel. Applications will be evaluated and rated on the basis of the list above. These criteria's will be used to evaluate the quality of the proposal and to assign a numerical score to each application. The comments from the ORC will be advisory only.

3. Anticipated Announcement and Award Dates.

The results of the objective review will be forwarded to the Director, Office of Public Health Support (OPHS) for final review and consideration. The OPHS Director will make recommendations for approval and funding to the IHS Director who will then make the final decision on all applications. Applicants will be notified in writing of approval or disapproval within approximately 30 days. For disapproved applications, a brief explanation of the reasons why the application was not approved will be provided along with the name of the IHS official to contact if more information is desired. Award Date: May 1, 2008.

VI. Award Administration Information

1. The Notice of Award (NoA) will be initiated by the DGO and will be mailed via postal mail to the entity that is approved for funding under this announcement. The NoA will serve as the official notification of the grant award and will reflect the amount of Federal funds awarded the purpose of the grant, the terms and conditions of the award, the effective date of the award, and the budget/project period. The NoA is the legally binding document between the IHS and the recipient.

2. Administrative Requirements

Grants are administrated in accordance with the following documents:

• This Program Announcement.

• Administrative Requirements: 45 CFR Part 92, “Uniform Administrative Requirements for Grants and Cooperative Agreements to State, Local and Tribal Governments,” or 45 CFR Part 74, “Uniform Administrative Requirements for Awards to Institutions of Higher Education, Hospitals, Other Non-Profit Organizations, and Commercial Organizations”.

• Grants Policy Guidance: HHS Grants Policy Statement, January 2007.

• Cost Principles: OMB Circular A-87, “State, Local, and Indian (Title 2 part 225)”.

• Cost Principles: OMB circular A-122, “Non-profit Organizations, OMB Circular A-87, State, Local, and Tribal governments (Title 2 Part 230)”.

• Audit Requirements: OMB Circular A-133, “Audits of States, Local Governments, and Non-profit Organizations”.

3. Indirect Cost: This section applies to all grant recipients that request reimbursement of indirect costs in their grant application. In accordance with HHS Grants Policy Statement, Part 11-27, IHS requires applicants to have a current indirect cost rate agreement in place prior to the award. The rate agreement must be prepared in accordance with the applicable cost principles and guidance as provided by the cognizant agency or office. A current rate means the rate covering the applicable activities and the award budget period. If the current rate is not on file with the DGO at the time of award, the indirect cost portion of the budget will be restricted and not available to the recipient until the current rate is provided to the DGO.

4. Reporting.

(a) Progress Report. Program progress reports are required semi-annually. These reports will include a brief comparison of actual accomplishments toward reaching the goals established for the period, or, if applicable, provide sound justification for the lack of progress, and other pertinent information as required. A final report must be submitted within 90 days of the expiration of the budget/project period.

(b) Financial Status Report. Semi-annual financial status reports must be submitted within 30 days of the end of the half year. Final financial status reports are due within 90 days of expiration of the budget/project period. Standard Form 269 (long form) will be used for financial reporting.

(c) Reports. Grantees must submit semi-annual Progress Reports and Financial Status Reports. Financial Status Reports (SF-269) are due 90 days after each budget period. Failure to submit required reports within the time allowed may result in suspension or termination of an active grant, withholding of additional awards for the project, or other enforcement actions such as withholding of payments or converting to the reimbursement method of payment. Continued failure to submit required reports may result in one or both of the following: (1) the imposition of special award provisions; and (2) the non-funding or non-award of other eligible projects or activities. This applies whether the delinquency is attributable to the failure of the grantee organization or the individual responsible for preparation of the reports.

5. Telecommunication for the hearing impaired is available at TTY 301-443-6394.

Dated: February 15, 2008.
Robert McSwain
Acting Director, Indian Health Service.

[FR Doc. 08-863 Filed 2-27-08; 8:45 am]

BILLING CODE 4165-16-M